DEPARTMENT OF AGRICULTURE

[Doc. Number: AMS-FTPP-18-0024]

Information Collection; United States Warehouse Act (USWA)

AGENCY: Agricultural Marketing Service, USDA.

ACTION: Revision to and extension of a currently approved information collection; comment request.

SUMMARY: In accordance with the Paperwork Reduction Act of 1995, as amended, the Agricultural Marketing Service (AMS) is requesting comments from all interested individuals and organizations on an extension of a currently approved information collection process associated with the regulations, licensing, and electronic provider agreements issued pursuant to the United States Warehouse Act (“USWA”). The only revision to this information collection involves the transfer of functions from the Farm Service Agency to the Agricultural Marketing Service due to internal reorganization within the United States Department of Agriculture.

DATES: Comments on this Notice must be received by July 9, 2018.

ADDRESSES: You may submit comments on this Notice. All comments should reference the docket number AMS-FTPP-18-0024, the date, and page number of this issue of the Federal Register. All comments received will be posted without change, including any personal information provided, at www.regulations.gov and will be included in the record and made available to the public. You may submit comments by any of the following methods:

• Federal eRulemaking Portal: Go to www.regulations.gov. Follow the online instructions for submitting comments.

• Mail, hand delivery, or courier: Brandi Kujawa, United States Department of Agriculture, Agricultural Marketing Service, Fair Trade Practices Program, Warehouse Commodity and Management Division—Examination Branch, STOP 9148, P.O. Box 419205, Kansas City, MO 64141-9205.

Copies of the information collection may be requested by contacting Brandi Kujawa as provided below.

FOR FURTHER INFORMATION CONTACT: For specific questions related to collection activities, contact Brandi Kujawa, (816) 926-6582. Persons with disabilities who require alternative means for communication (Braille, large print, audio tape, etc.) should contact the USDA's TARGET Center at (202)720-2600 (Voice).

SUPPLEMENTARY INFORMATION:

Title: United States Warehouse Act (USWA).

OMB Control Number: 0581-0305.

Expiration Date of Approval: June 30, 2018.

Type of Request: Revision and extension of a currently approved information collection.

Abstract: AMS is responsible, as required by the USWA, 7 U.S.C. 241 et seq., to license public warehouse operators that are in the business of storing agricultural products, to examine such federally-licensed warehouses and to license qualified persons to sample, inspect, weigh, and classify agricultural products. The AMS licenses under the USWA cover approximately half of all commercial grain and cotton warehouse capacities in the United States. The regulations that implement the USWA govern the establishment and maintenance of systems under which documents, including documents of title on shipment, payment and financing, may be issued or transferred for agricultural products. Some of these systems and documents issued may be electronic. The regulations are found at 7 CFR 735 et seq.

This information collection allows AMS to effectively administer the regulations, licensing, and electronic provider agreements and related reporting and recordkeeping requirements as specified in the USWA.

The forms in this information collection are used to provide those charged with issuing licenses under the USWA a basis to determine whether the warehouse and the warehouse operator meet application requirements to receive a license, and to determine compliance once the license is issued.

In keeping the public informed, this information collection request was previously approved by the Farm Service Agency (FSA) and due to an internal reorganization, the USWA functions were transferred to AMS. The OMB control number for the forms is currently 0581-0305. AMS is not making any changes to the burden hours in this request since the prior submission to OMB made by FSA.

For the following estimated total annual burden on respondents, the formula used to calculate the total burden hours is the estimated average time per response multiplied by the estimated total annual responses.

Estimate of Respondent Burden: Public reporting burden for collecting information under this notice is estimated to average 0.46 hour per response, including the time for reviewing instructions, searching existing data sources, gathering and maintaining the data needed, and completing and reviewing the collections of information.

Type of Respondents: Warehouse operators, electronic providers and producers participating in AMS or Commodity Credit Corporation programs.

Estimated Number of Respondents: 3,000.

Estimated Average Number of Responses per Respondent: 5.9574.

Estimated Total Annual Responses: 17,872.

Estimated Average Time per Response: 0.46.

Estimated Total Annual Burden on Respondents: 8,162.50 hours.

Comments are invited on all aspects of this information collection to help AMS to:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who are to respond through the use of appropriate automated, electronic, mechanical, or other technological collection techniques or other forms of information technology.

All comments received in response to this notice, including names and addresses when provided, will become a matter of public record. Comments will be summarized and included in the request for OMB approval of the information collection.

Dated: May 2, 2018.
Greg Ibach,
Under Secretary, Marketing and Regulatory Programs.

[FR Doc. 2018-09678 Filed 5-7-18; 8:45 am]

BILLING CODE 3410-02-P